OFFICE OF PERSONNEL MANAGEMENT

5 CFR Part 532

RIN 3206-AI90

Prevailing Rate Systems; Abolishment of the Dubuque, IA, Appropriated Fund Wage Area

AGENCY: Office of Personnel Management.

ACTION: Final rule.

SUMMARY: The Office of Personnel Management is issuing a final rule to remove the requirement to conduct a full-scale wage survey in the Dubuque, Iowa, Federal Wage System (FWS) wage area. The final rule also abolishes the Dubuque, IA, FWS wage area and redefines the counties of Clinton, Dubuque, and Jackson, IA, and Carroll, Jo Daviess, and Whiteside, Illinois, to the area of application of the Davenport-Rock Island-Moline, IA, FWS wage area. This change is necessary because the Dubuque wage area's host installation, the Savannah Army Depot, is closing and will no longer be capable of hosting annual wage surveys.

DATES: The interim rule became effective on October 31, 1999. The interim rule is confirmed as final on May 15, 2000.

FOR FURTHER INFORMATION CONTACT: Jennifer Hopkins, (202) 606-2848, FAX: (202) 606-0824, or email jdhopkin@opm.gov.

SUPPLEMENTARY INFORMATION: On November 4, 1999, the Office of Personnel Management (OPM) published an interim rule (64 FR 60087) to remove the requirement to conduct a full-scale wage survey in the Dubuque, Iowa, appropriated fund Federal Wage System (FWS) wage area and to abolish the wage area. FWS employees in the Dubuque wage area moved to the Davenport, IA, wage schedule on the first day of the first applicable pay period beginning on or after December 19, 1999.

Under section 5343 of title 5, United States Code, OPM is responsible for defining FWS wage areas. For this purpose, we follow the regulatory criteria in section 532.211 of title 5, Code of Federal Regulations. The Dubuque wage area is presently composed of six survey counties, Clinton, Dubuque, and Jackson, IA, and Carroll, Jo Daviess, and Whiteside, IL. The Department of Defense (DOD) asked OPM to abolish the requirement to conduct a full-scale wage survey in the Dubuque wage area because of the planned closure of the wage area's host installation, the Savannah Army Depot. This closure leaves DOD without an installation in the survey area that is capable of hosting annual local wage surveys. DOD also asked OPM to abolish the Dubuque wage area and redefine its counties to the area of application of the Davenport, IA, FWS wage area.

The Federal Prevailing Rate Advisory Committee, the national labor-management committee responsible for advising OPM on matters concerning the pay of FWS employees, reviewed these recommendations and by consensus recommended approval of these changes. The interim rule had a 30-day public comment period, during which OPM did not receive any comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

Accordingly, under the authority of 5 U.S.C. 5343, the interim rule (64 FR 60087) amending 5 CFR part 532 published on November 4, 1999, is adopted as final with no changes.

Office of Personnel Management.
Janice R. Lachance,
Director.

[FR Doc. 00-12056 Filed 5-12-00; 8:45 am]

BILLING CODE 6325-01-P